DEPARTMENT OF THE TREASURY

Office of Foreign Assets Control

Designation and Identification of Two (2) Individuals and Two (2) Entities Pursuant to Executive Orders 13572 of April 29, 2011, “Blocking Property of Certain Persons With Respect to Human Rights Abuses in Syria” and 13582 of August 17, 2011, “Blocking Property of the Government of Syria and Prohibiting Certain Transactions With Respect to Syria”

AGENCY: Office of Foreign Assets Control, Treasury.

ACTION: Notice.

SUMMARY: The Treasury Department's Office of Foreign Assets Control (“OFAC”) is publishing the names of two (2) individuals and two (2) entities whose property and interests in property are blocked pursuant to Executive Orders 13572 of April 29, 2011, “Blocking Property of Certain Persons with Respect to Human Rights Abuses in Syria” and 13582 of August 17, 2011 “Blocking Property of the Government of Syria and Prohibiting Certain Transactions with Respect to Syria.”

DATES: The actions by the Director of OFAC with respect to the two (2) individuals and two (2) entities identified in this notice, pursuant to Executive Orders 13572 and 13582, are effective as of December 11, 2012.

FOR FURTHER INFORMATION CONTACT: Assistant Director, Sanctions, Compliance & Evaluation, Office of Foreign Assets Control, Department of the Treasury, 1500 Pennsylvania Avenue NW., (Treasury Annex), Washington, DC 20220, Tel.: 202/622-2490.

SUPPLEMENTARY INFORMATION:

Electronic and Facsimile Availability

This document and additional information concerning OFAC are available from OFAC's Web site (www.treas.gov/ofac) or via facsimile through a 24-hour fax-on-demand service, Tel.: 202/622-0077.

Background

On December 11, 2012, the Director of OFAC, in consultation with the Department of State, designated pursuant to one or more of the criteria set forth in subsection 1(b) of Executive Order 13572, one (1) individual and one (1) entity.

The listings on OFAC's list of Specially Designated Nationals and Blocked Persons for the individual and entity, whose property and interests in property are blocked pursuant to Executive Order 13572, appear as follows:

Individual

1. JABER, Ayman (a.k.a. JABER, Aiman; a.k.a. JABER, Ayman Mehriz; a.k.a. JABER, Ayman Mohriz; a.k.a. JABIR, Ayman; a.k.a. JABIR, Ayman Muhriz); DOB 17 Jan 1967; Passport 003308607 (Syria) (individual) [SYRIA];

Entity

1. SHABIHA (a.k.a. AL-SHABBIHAH; a.k.a. SHABBIHA; a.k.a. SHABBIHAH; a.k.a. SHABEEHA), Syria [SYRIA].

On December 11, 2012, the Director of OFAC, in consultation with the Department of State, designated pursuant to one or more of the criteria set forth in subsection 1(b) of Executive Order 13582, two (2) individuals.

The listings on OFAC's list of Specially Designated Nationals and Blocked Persons for the individuals, whose property and interests in property are blocked pursuant to Executive Order 13582, appear as follows:

Individuals

1. JABER, Mohammad (a.k.a. JA FAR, Abu; a.k.a. JABIR, Mohammad; a.k.a. JABIR, Muhammad; a.k.a. JABIR, Muhammad Mahruz; a.k.a. JABIR, Muhammad Muhraz; a.k.a. JABIR, Muhammad Muhriz; a.k.a. JA'FAR, Abu); DOB 23 Jan 1957; POB Latakia, Syria; Passport N004871560 (Syria) (individual) [SYRIA].

2. JABER, Ayman (a.k.a. JABER, Aiman; a.k.a. JABER, Ayman Mehriz; a.k.a. JABER, Ayman Mohriz; a.k.a. JABIR, Ayman; a.k.a. JABIR, Ayman Muhriz); DOB 17 Jan 1967; Passport 003308607 (Syria) (individual) [SYRIA]

On December 11, 2012, the Director of OFAC identified two (2) entities as falling within the definition of the Government of Syria set forth in section 8(d) of Executive Order 13582. On July 13, 2013, the Director of OFAC supplemented the identification information for JAYSH AL-SHA'BI.

The listings on OFAC's list of Specially Designated Nationals and Blocked Persons for the entities, whose property and interests in property are blocked, are as follows.

Entities

1. JAYSH AL-SHA'BI (a.k.a. AL-SHA'BI COMMITTEES; a.k.a. JAYSH AL-SHAAB; a.k.a. JISH SHAABI; a.k.a. SHA'BI COMMITTEES; a.k.a. SHA'BI FORCE; a.k.a. SYRIAN NATIONAL DEFENSE FORCE; a.k.a. SYRIAN NATIONAL DEFENSE FORCES; a.k.a. “ARMY OF THE PEOPLE”; a.k.a. “PEOPLE'S ARMY”; a.k.a. “POPULAR COMMITTEES”; a.k.a. “POPULAR FORCES”; a.k.a. “SHA'BI”; a.k.a. “THE POPULAR ARMY”) [SYRIA].

2. SHABIHA (a.k.a. AL-SHABBIHAH; a.k.a. SHABBIHA; a.k.a. SHABBIHAH; a.k.a. SHABEEHA), Syria [SYRIA].

Dated: July 11, 2013.
Adam Szubin,
Director, Office of Foreign Assets Control.

[FR Doc. 2013-17135 Filed 7-18-13; 8:45 am]

BILLING CODE 4810-AL-P